DEPARTMENT OF HEALTH AND HUMAN SERVICES

Centers for Disease Control and Prevention

Advisory Committee for Injury Prevention and Control: Meeting

In accordance with section 10(a)(2) of the Federal Advisory Committee Act (Pub. L. 92-463), the Centers for Disease Control and Prevention (CDC) announces the following committee meeting.

Name: Advisory Committee for Injury Prevention and Control (ACIPC).

Times and Dates: 1:30 p.m.-5 p.m., August 15, 2000. 8:30 a.m.-3:30 p.m., August 16, 2000.

Place: The Westin Atlanta Airport, 4736 Best Road, College Park, Georgia 30337.

Status: Closed: 2:45 p.m.-5 p.m., August 15, 2000, and 8:30 a.m.-9 a.m., August 16, 2000; Open: 1:30 p.m.-2:45 p.m., August 15, 2000, and 9 a.m.-3:30 p.m., August 16, 2000.

Purpose: The Committee advises and makes recommendations to the Secretary, the Assistant Secretary for Health, and the Director, CDC, regarding feasible goals for the prevention and control of injury. The Committee makes recommendations regarding policies, strategies, objectives, and priorities, and reviews progress toward injury prevention and control. The Committee provides advice on the appropriate balance of intramural and extramural research, and also provides guidance on the needs, structure, progress and performance of intramural programs, and on extramural scientific program matters. The Committee provides second-level scientific and programmatic review for applications for research grants, cooperative agreements, and training grants related to injury control and violence prevention, and recommends approval of projects that merit further consideration for funding support. The Committee also recommends areas of research to be supported by contracts and cooperative agreements and provides concept review of program proposals and announcements.

Matters To Be Discussed: The meeting will convene in closed session from 2:45 p.m. to 5 p.m. on August 15, 2000. The purpose of this closed session is for the Science and Program Review Work Group (SPRWG) to consider injury control research grant applications recommended for further consideration and the results of several site visit reports. On August 16, 2000, from 8:30 a.m. to 9 a.m., the ACIPC voting members will convene in closed session to vote on a funding recommendation and results of the site visit reports. These portions of the meeting will be closed to the public in accordance with provisions set forth in section 552(c)(4) and (6) title 5 U.S.C., and the Determination of the Associate Director for Management and Operations, CDC, pursuant to Pub. L. 92-463. Prior to the SPRWG closed session, there will be a program oversight session which will include announcements, updates, and an overview of National Center for Injury Prevention and Control (NCIPC) Division of Violence Prevention Activities and priorities for intimate partner violence and youth violence. The Committee will also discuss (1) an update from the Acting Director, NCIPC; (2) current and future child occupant protection activities; and (3) reports from the August 15 meetings of the Subcommittee on Family and Intimate Violence Prevention and SPRWG.

Agenda items are subject to change as priorities dictate.

Contact Person for More Information: Mr. Thomas E. Blakeney, Acting Executive Secretary, ACIPC, NCIPC, CDC, 4770 Buford Highway, NE, M/S K61, Atlanta, Georgia 30341-3724, telephone 770/488-1481.

The Director, Management Analysis and Services Office, has been delegated the authority to sign Federal Register notices pertaining to announcements of meetings and other committee management activities, for both the Centers for Disease Control and Prevention and the Agency for Toxic Substances and Disease Registry.

Dated: July 17, 2000.
Carolyn J. Russell,
Management Analysis and Services Office, Centers for Disease Control and Prevention.

[FR Doc. 00-18599 Filed 7-21-00; 8:45 am]

BILLING CODE 4163-18-P